DEPARTMENT OF COMMERCE

International Trade Administration

[A-580-839]

Certain Polyester Staple Fiber From the Republic of Korea: Rescission of Antidumping Duty Administrative Review; 2015-2016

AGENCY: Enforcement and Compliance, International Trade Administration, Department of Commerce.

SUMMARY: The Department of Commerce is rescinding the administrative review of the antidumping duty order on certain polyester staple fiber from the Republic of Korea, based on the timely withdrawal of requests for review. The period of review is May 1, 2015, through April 30, 2016.

DATES: Effective: September 22, 2016.

FOR FURTHER INFORMATION CONTACT: Sergio Balbontin at (202) 482-6478, AD/CVD Operations, Office I, Enforcement and Compliance, International Trade Administration, U.S. Department of Commerce, 1401 Constitution Avenue NW., Washington, DC 20230.

SUPPLEMENTARY INFORMATION:

Background

On May 2, 2016, the Department of Commerce (the Department) published a notice of opportunity to request an administrative review of the antidumping duty order on certain polyester staple fiber (PSF) from the Republic of Korea (Korea) for the period of review (POR) of May 1, 2015, through April 30, 2016 in the Federal Register.¹ On May 31, 2016, the Department received timely-filed requests from DAK Americas LLC and Auriga Polymers (the petitioners), and Huvis Corporation (Huvis), in accordance with 19 CFR 351.213(b), for an administrative review of Huvis.² On July 7, 2016, pursuant to these requests and in accordance with 19 CFR 351.221(c)(1)(i), the Department published a notice of initiation of an administrative review of Huvis.³ On July 12, 2016, and July 26, 2016, pursuant to 19 CFR 351.213(d)(1), the petitioners and Huvis, respectively, timely withdrew their requests for an administrative review.⁴

¹ See Antidumping or Countervailing Duty Order, Finding, or Suspended Investigation; Opportunity To Request Administrative Review, 81 FR 26206 (May 2, 2016).

² See Letters from the petitioners, “Polyester Staple Fiber from Korea,” and Huvis, “Certain Polyester Staple Fiber from Korea; Request for Administrative Review for 2015-2016 Period,” both dated May 31, 2016. The petitioners also requested a review of Toray Chemical Korea, Inc. (Toray); because the petitioners withdrew this request before the initiation notice was published, and there were no other requests for a review of Toray, the Department did not initiate a review of Toray. See Letter from the petitioners, “Certain Polyester Staple Fiber from Korea; Withdrawal of Review Request for Toray Chemical Korea,” dated June 27, 2016.

³ See Initiation of Antidumping and Countervailing Duty Administrative Reviews, 81 FR 44260 (July 7, 2016) (Initiation Notice).

⁴ See Letter from the petitioners, “Polyester Staple Fiber From Korea—Withdrawal of Review Request,” dated July 12, 2016, and letter from Huvis, “Certain Polyester Staple Fiber from Korea; Withdrawal of Review Request for 2015-2016 Period,” dated July 26, 2016.

Rescission of Review

Pursuant to 19 CFR 351.213(d)(l), the Department will rescind an administrative review, in whole or in part, if the party, or parties, that requested a review withdraw the request/s within 90 days of the publication date of the notice of initiation of the requested review. As noted above, the petitioner withdrew its request for review of Huvis within 90 days of the publication date of the notice of initiation. In addition, Huvis also timely withdrew its request for an administrative review. No other parties requested an administrative review of the antidumping duty order on certain polyester staple fiber from the Republic of Korea. Therefore, in response to the timely withdrawal of requests for review and in accordance with 19 CFR 351.213(d)(l), the Department is rescinding this review.

Assessment

The Department will instruct U.S. Customs and Border Protection (CBP) to assess antidumping duties on all appropriate entries of PSF from Korea during the POR. Antidumping duties shall be assessed at rates equal to the cash deposit of estimated antidumping duties required at the time of entry, or withdrawal from warehouse, for consumption in accordance with 19 CFR 351.212(c)(l)(i). The Department intends to issue appropriate assessment instructions to CBP 15 days after publication of this notice in the Federal Register.

Notification To Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Notification Regarding Administrative Protective Order

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(l) and 777(i)(1) of the Tariff Act of 1930, as amended, and 19 CFR 351.213(d)(4).

Dated: September 16, 2016.
Christian Marsh,
Deputy Assistant Secretary for Antidumping and Countervailing Duty Operations.

[FR Doc. 2016-22886 Filed 9-21-16; 8:45 am]

BILLING CODE 3510-DS-P